DEPARTMENT OF COMMERCE

International Trade Administration

Solar Photovoltaic (PV) Value Chain Industry Roundtable

AGENCY: International Trade Administration, DOC.

ACTION: Notice of a roundtable discussion on challenges and opportunities for strengthening the U.S. solar supply chain for PV manufacturing.

SUMMARY: Through this notice, the International Trade Administration (ITA) of the Department of Commerce announces a roundtable discussion with industry representatives and U.S. government staff. ITA invites applications to participate in the roundtable from existing manufacturers and prospective new market entrants, with products that are or will be produced in the United States in one or more of the following segments: Solar-grade polysilicon, silicon ingots, silicon wafers, solar cells, and solar modules.

DATES:

Event: The roundtable will be held on March 19, 2020 from 9:30 a.m. to 4:00 p.m., Eastern Daylight Time.

Event Registration: ITA will evaluate registrations based on the submitted information (see below) and inform applicants of selection decisions, which will be made on a rolling basis until 30 participants have been selected.

ADDRESSES: Event: The roundtable will be held at the Department of Commerce, Commerce Research Library, 1401 Constitution Ave. NW, Washington, DC 20230.

FOR FURTHER INFORMATION CONTACT: Cora Dickson, Senior International Trade Specialist, ITA, at (202) 482-6083.

SUPPLEMENTARY INFORMATION: Global investment in solar technology and services (over $100 billion per year since 2010) has grown exponentially and is expected to be the dominant new electricity source for the next several decades. The United States ranks second in the world for overall solar generation capacity. Despite this large domestic demand for solar, U.S. manufacturers have difficulty competing with the massive scale and unfair trade practices of overseas suppliers, and the United States has thus become dependent on imports.

The Department seeks individual input and views at the March 19, 2020 roundtable regarding the United States solar PV value chain, including the following topics:

• National security implications of solar PV manufacturing in the United States and its related value chain;

• The current state of upstream manufacturing for solar PV in the United States, including solar cells, silicon wafers, polysilicon, and other key materials and components of PV modules;

• Long-range goals and strategic vision for solar PV innovation in the United States, including the role of both federal research and industry's collaboration with universities;

• The role of trade policy in providing a level playing field for U.S. solar PV manufacturing and its value chain to scale up and compete with imports; and

• Incentives that could attract investment in and strengthen the competitive position of U.S. manufacturers of solar PV and its value chain.

Due to limited space, the event is closed to press and observers. Industry participation is limited to 30 qualifying industry representatives. Officials from the Department of Energy, Department of State, and other relevant agencies will also be invited to participate in the discussion.

Selection: To attend, participants should submit the below information to Cora.Dickson@trade.gov by March 10, 2020. I&A will evaluate registrations based on the submitted information (and based on the criteria below) on a rolling basis until 30 participants have been selected and inform applicants of selection decisions.

Applicants are encouraged to send representatives at a sufficiently senior level to be knowledgeable about their organization's capabilities, interests and challenges in the U.S. solar PV value chain. Due to space constraints, there is a limit of one person per organization.

Registrations should include the following information in their registration email:

• Name of attendee and short bio.

• Organization and brief organization description.

• A statement self-certifying how the organization meets each of the following criteria:

1. It is not majority owned by a foreign government entity (or entities).

2. It is an existing manufacturer or prospective new market entrant, with products that are or will be produced in the United States in one or more of the following segments: Solar-grade polysilicon, silicon ingots, silicon wafers, solar cells, and solar modules.

3. In the case of a trade association, academic or research institution, the applicant will only be representing companies during the roundtable that satisfy each of the criteria above.

Selection will be based on the following criteria:

• Suitability of the company's (or in the case of another organization, represented companies' or constituents') existing products in the solar PV value chain.

• Suitability of the company's (or in the case of another organization, represented companies' or constituents') experience in manufacturing in the United States.

• Suitability of the representative's position and biography to be able to engage in the conversation.

• Ability of the company or organization to contribute to the roundtable's purpose of seeking individual input and views on the United States solar PV value chain, including whether the company or organization may have conflicting interests, such that its selection could hinder the effectiveness of the roundtable.

Dated: February 18, 2020.
Man Cho,
Deputy Director, Office of Energy and Environmental Industries.

[FR Doc. 2020-03543 Filed 2-21-20; 8:45 am]

BILLING CODE 3510-DR-P